Title 3—

The President

Proclamation 9019 of September 16, 2013

Constitution Day and Citizenship Day, Constitution Week, 2013

By the President of the United States of America

A Proclamation

In May of 1787, delegates gathered in the Pennsylvania State House to chart a new course for our nascent country. They met in a time of economic hardship and passionate debate, but with the understanding that while controversy is a hallmark of democracy, the forces of tension and uncertainty pale in comparison to the strength of our common ideals. In a document that has endured for more than two and a quarter centuries, the Framers put forth their vision for a more perfect Union.

Our Constitution was signed on September 17, 1787, and after an extended period of national conversation and with the promise of a bill of rights, it became the supreme law of the land. Since that time, America's Constitution has inspired nations to demand control of their own destinies. It has called multitudes to seek freedom and prosperity on our shores. We are a proud Nation of immigrants, home to a long line of aspiring citizens who contributed to their communities, founded businesses, or sacrificed their livelihoods so they could pass a brighter future on to their children. Each year on Citizenship Day, we welcome the newest members of the American family as they pledge allegiance to our Constitution and join us in writing the next chapter of our national story.

Throughout our history, immigrants have embraced the spirit of liberty, equality, and justice for all—the same ideals that stirred the patriots of 1776 to rise against an empire, guided the Framers as they built a stronger republic, and moved generations to bridge our founding promise with the realities of our time.

The pursuit of this promise defines our history; with amendments that trace our national journey, the Constitution bears witness to how far we have come. As we celebrate the world's longest surviving written charter of government, let us remember that upholding our founding principles requires us to challenge modern injustices. Let us accept our responsibilities as citizens, our obligations to one another and to future generations. Let us move forward with the knowledge that in the face of impossible odds, those who love their country can change it.

In remembrance of the signing of the Constitution and in recognition of the Americans who strive to uphold the duties and responsibilities of citizenship, the Congress, by joint resolution of February 29, 1952 (36 U.S.C. 106), designated September 17 as “Constitution Day and Citizenship Day,” and by joint resolution of August 2, 1956 (36 U.S.C. 108), requested that the President proclaim the week beginning September 17 and ending September 23 of each year as “Constitution Week.”

NOW, THEREFORE, I, BARACK OBAMA, President of the United States of America, do hereby proclaim September 17, 2013, as Constitution Day and Citizenship Day, and September 17 through September 23, 2013, as Constitution Week. I encourage Federal, State, and local officials, as well as leaders of civic, social, and educational organizations, to conduct ceremonies and programs that bring together community members to reflect on the importance of active citizenship, recognize the enduring strength of our Constitution, and reaffirm our commitment to the rights and obligations of citizenship in this great Nation.

IN WITNESS WHEREOF, I have hereunto set my hand this sixteenth day of September, in the year of our Lord two thousand thirteen, and of the Independence of the United States of America the two hundred and thirty-eighth.

[FR Doc. 2013-23014

Filed 9-18-13; 11:15 am]

Billing code 3295-F3